Department of Health and Human Services

National Institutes of Health

Office of the Director; Notice of Meeting

Notice is hereby given of a meeting scheduled by the Deputy Director for Intramural Research at the National Institutes of Health (NIH) with the Chairpersons of the Boards of Scientific Counselors. The Boards of Scientific Counselors are advisory groups to the Scientific Directors of the Intramural Research Programs at the NIH.

The meeting will be open to the public. Attendance in person is limited to space available in the conference room. Individuals who wish to listen to the discussions by telephone must call using the information listed below. Individuals who plan to attend and need special assistance, such as sign language interpretation or other reasonable accommodations, should notify the contact person listed below.

Date: Friday, June 17, 2016.

Time: 10:00 a.m. to 2:00 p.m. EST.

Place: Room 7, C-Wing, 6th Floor, Building 31, 31 Center Drive, Bethesda, MD 20892.

Teleconference Information: 888-849-8917. Participant Passcode 48961.

Agenda: The meeting will include a discussion of policies and procedures that apply to the regular review of NIH intramural scientists and their work.

Contact Person: Margaret McBurney, Program Specialist, Office of the Deputy Director for Intramural Research, 1 Center Drive, Room 160, Bethesda, MD 20892, email: mmcburney@od.nih.gov, Phone: 301-496-1921, Fax: 301-402-4273.

In the interest of security, NIH has instituted stringent procedures for entrance onto the NIH campus. All visitor vehicles, including taxicabs, hotel and airport shuttles will be inspected before being allowed on campus. Visitors will be asked to show one form of identification (for example, a government-issued photo ID, driver's license, or passport) and to state the purpose of their visit.

Dated: May 4, 2016.
Anna Snouffer,
Deputy Director, Office of Federal Advisory Committee Policy.

[FR Doc. 2016-10884 Filed 5-9-16; 8:45 am]

BILLING CODE 4140-01-P